DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 29, 2001.

Interested persons are invited to submit written comments regarding the subject matter of the investigations to the Director, Division of Trade Adjustment Assistance, at the address shown below, not later than October 29, 2001.

The petitions filed in this case are available for inspection at the Office of the Director, Division of Trade Adjustment Assistance, Employment and Training Administration, U.S. Department of Labor, Room C-5311, 200 Constitution Avenue, NW, Washington, DC 20210.

Signed at Washington, DC this 17th day of September, 2001.
Edward A. Tomchick,
Director, Division of Trade Adjustment Assistance.

Appendix
[Petitions instituted on 09/17/2001]
TA-W | Subject firm (petitioners) | Location | Date of petition | Product(s)
39,996 | PixTech, Inc. (Co.) | Boise, ID | 08/29/2001 | Flat and Panel Displays.
39,997 | Keokuk Ferro-Sil, Inc. (Co.) | Keokuk, IA | 08/23/2001 | Ferrosilion.
39,998 | Cook Technologies, Inc. (Co.) | Green Lane, PA | 08/23/2001 | Welded Parts for Electric Carts.
39,999 | Gerber Childrenswear (Co.) | Pelzer, SC | 08/20/2001 | Children's Bed and Bath Products.
40,000 | Brother Industries USA (Co.) | Bartlett, TN | 08/20/2001 | Typewriter Assemblies.
40,001 | Crowe Rope Industries (Co.) | Searsmont, ME | 08/29/2001 | Twine and Small Rope.
40,002 | PDS Railcar Services (BRTIU) | Port Huron, MI | 08/27/2001 | Repair & Maintain Railroad Cars.
40,003 | HPM Corp./HPM Remanufact (IAMAW) | Mt. Gilead, OH | 08/21/2001 | Injection Molding Machines.
40,004 | Baldor Motors and Drives (Wrks) | Plymouth, MN | 08/23/2001 | Electric AC and DC Drives.
40,005 | SDK Knitting, Inc. (Co.) | Schaefferstown, PA | 08/25/2001 | Commission Knitting/Fabric.
40,006 | Planar Systems, Inc. (Wrks) | Lake Mills, WI | 08/23/2001 | Liquid Crystal Displays.
40,007 | Desa International (Wrks) | Shelbyville, TN | 08/27/2001 | Sheet Metal Fireplaces.
40,008 | Summit Circuits, Inc. (UFCW) | Fort Wayne, IN | 08/28/2001 | Printed Circuit Boards.
40,009 | JC Surrey 2001, Inc. (Wrks) | Leander, TX | 08/24/2001 | Luxury Glycerin Soaps.
40,010 | Seville Dyeing Co., Inc. (Wrks) | Woonsocket, RI | 08/24/2001 | Textile Processing.
40,011 | Cliffs Mining Service (Wrks) | Hibbing, MN | 08/16/2001 | Taconite Mining.
40,012 | Forsheda Engineered Seals (Co.) | Vandalia, IL | 08/27/2001 | Automotive Gaskets.
40,013 | Crompton Colors, Inc. (Co.) | Newark, NJ | 08/27/2001 | Organic Dyes and Intermediates.
40,014 | MECO Corp. (Wrks) | Greeneville, TN | 08/26/2001 | Metal Folding Furniture.
40,015 | Versatile Mold and Design (Co.) | Rutledge, GA | 08/28/2001 | Molds for Plastic Industry.
40,016 | AVX Corp. (Wrks) | Myrtle Beach, SC | 08/28/2001 | Electrical Capacitors.
40,017 | UniFirst Corp (Co.) | Cave City, AR | 08/28/2001 | Apparel.
40,018 | Trailmobile Trailer LLC (Wrks) | Liberal, KS | 08/28/2001 | Dry Freight and Refrigerated Trailers.
40,019 | Carolina Mills, Inc. (Co.) | Gastonia, NC | 08/29/2001 | Textile Yarns.
40,020 | Continental Fabric, Inc (Co.) | Gloversville, NY | 08/29/2001 | Fabrics.
40,021 | Alba-Waldensian, Inc. (Co.) | Rutherfordton, NC | 08/27/2001 | Knitted Intimate Apparel.
40,022 | Anderson Greenwood/Tyco (UAW) | Wrentham, MA | 08/29/2001 | Pressure Relief Valves.
40,023 | Nation Ford Chemical Co. (Wrks) | Fort Mill, SC | 08/27/2001 | Synthetic Organic Chemicals.
40,024 | Phillips-Van Heusen (Co.) | Ozark, AL | 08/28/2001 | Men's Dress Shirts.
40,025 | Bramton Co. (The) (Wrks) | Dallas, TX | 08/20/2001 | Cloth Pet Products.
40,026 | American De Rosa Lamp (Wrks) | Commerce, CA | 08/27/2001 | Warehousing & Distribution of Lamp Parts.
40,027 | Hayward Pool Products (Co.) | Kings Mountain, NC | 08/30/2001 | Pool Products.
40,028 | Story and Clark Piano Co. (Wrks) | Seneca, PA | 08/30/2001 | Pianos—Upright and Grand.
40,029 | Jackson Precision Diecast (Co.) | Jackson, MI | 08/22/2001 | Transmission Bushing, Dies.
40,030 | Brown and Sharpe (Wrks) | No. Kingstown, RI | 08/31/2001 | Coordinate Measuring Machines.
40,031 | Laclede Steel (Wrks) | Vandalia, IL | 08/28/2001 | Pipe and Conduit.
40,032 | Laclede Steel (USWA) | Alton, IL | 08/29/2001 | Semi-Finished Tubular, Bar.
40,033 | Kraft Foods (Wrks) | Allentown, PA | 08/31/2001 | Spoonables, Purables & Bar-B-Que.
40,034 | D and M Tool, Inc. (Wrks) | Meadville, PA | 08/30/2001 | Molds, and Dies.
40,035 | Eagle Veneer, Inc. (Wrks) | Harrisburg, OR | 08/31/2001 | Engineered Wood Products.
40,036 | Poly One Corp (Co.) | Corona, CA | 08/30/2001 | Compounded Plastics.
40,037 | Glad Rags, Inc. (Wrks) | Buchanan, VA | 08/31/2001 | Ladies' Apparel.
40,038 | HH Smith, Inc. (Co) | Meadville, PA | 08/31/2001 | Electrical Connectors and Hardware.
40,039 | TNS Mills, Inc. (Co.) | Rockingham, NC | 08/30/2001 | Ring Spun Yarns.
40,040 | United Metal Fabricators (UMWA) | Johnstown, PA | 08/27/2001 | Hospital Cabinets, Exam Tables.
40,041 | Magee Apparel Co (Co.) | Magee, MS | 08/23/2001 | Jeans & Related Apparel Bottoms.
40,042 | WP Textiles Processing (Co.) | Richmond, VA | 09/04/2001 | Textile Pigment Printing.
40,043 | Steelcase Architectural (Co.) | Solon, OH | 08/24/2001 | Movable Walls.
40,044 | Boldt Metronics Int'l (Wrks) | Schaumburg, IL | 08/23/2001 | Metal Metronics Components.
40,045 | Maxell Corp. of America (Co.) | Conyers, GA | 08/28/2001 | Video Cassettes.
40,046 | Parker Hannifin Corp (Co.) | Lincolnshire, IL | 08/31/2001 | Hydraulic Components.
40,047 | Carol Ann Fashions Corp (Wrks) | Hastings, PA | 08/31/2001 | Ladies' Skirts and Pants.
40,048 | Three-Five Systems, Inc. (Wrks) | Tempe, AZ | 08/17/2001 | LCD Displays.
40,049 | Daniel Measurement (Co.) | Statesboro, GA | 09/05/2001 | Valves and Turbines.
40,050 | Moco Thermal Industries (PACE) | Caseville, MI | 08/27/2001 | Customer Designed Ovens.
40,051 | Prime Tanning Co., Inc. (Co.) | Rochester, NH | 09/04/2001 | Leather for Shoes and Handbags.
40,052 | Emsar, Inc. (Co.) | Bridgeport, CT | 08/30/2001 | Molded Spray Pumps.
40,053 | Hagale Apparel, Inc. (Co.) | Kinston, NC | 09/04/2001 | Men's Shirts.
40,054 | Fairchild Semiconductor (Wrks) | Mountaintop, PA | 09/02/2001 | Power Semiconductors.
40,055 | GFC Fabricating LLC (Wrks) | Berwick, PA | 08/31/2001 | Elastic Material for Disposable Diapers.
40,056 | Joint Venture Tool (Co.) | Saegertown, PA | 08/13/2001 | Mold Designs.
40,057 | Virginia Glove (Wrks) | Glade Springs, VA | 08/31/2001 | Work Gloves.
40,058 | Belco Tool and Mfg, Inc (Comp) | Meadville, PA | 08/29/2001 | Plastics Injection Molds.

[FR Doc. 01-26358 Filed 10-18-01; 8:45 am]

BILLING CODE 4510-30-M